DEPARTMENT OF DEFENSE

Department of the Army; Corps of Engineers

Availability of Draft Supplemental Environmental Impact Statement for Atlantic Coast of Maryland Shoreline Protection Project—General Reevaluation Study: Borrow Sources for 2010-2044, Worcester County, MD

AGENCY: Department of the Army, U.S. Army Corps of Engineers, DOD.

ACTION: Notice of availability.

SUMMARY: In accordance with the requirements of the National Environmental Policy Act (NEPA), the Baltimore District, U.S. Army Corps of Engineers (USACE), has prepared a Draft Supplemental Environmental Impact Statement (SEIS) for the Atlantic Coast of Maryland Shoreline Protection Project (Atlantic Coast Project) evaluating new borrow sources to provide sand for routine periodic beach nourishment of Ocean City, MD for the years 2010-2044. Existing borrow sources in state waters are anticipated to be exhausted in about 2010.

Between 6,800,000 and 15,000,000 cubic yards of sand would be needed through 2044, depending on future storm frequency and intensity. Three offshore shoals in Federal waters are proposed as sand sources: Weaver, Isle of Wight, and “A.” Sand may also be dredged from Shoal “B,” also known as Bass Grounds or First Lump, in the future, but only if its value as a fishing ground declines substantially. Guidelines to minimize long-term impacts to the offshore shoals were formulated in coordination with resource agency personnel and academic experts. Dredging would be conducted in accordance with these guidelines. Specific dredging plans would be developed in coordination with resource agencies prior to each beach nourishment cycle. We are making the Draft SEIS available to the public for a 45-day review and comment period.

DATES: Comments need to be received on or before August 28th, 2007, to ensure consideration in final plan development. A public meeting will be held for the Draft SEIS Document at Ocean City Town Hall, 301 Baltimore Avenue, on July 25th, 2007. A presentation will be given at 7 PM; displays will be available for viewing and staff on hand to answer questions beginning at 6 PM.

ADDRESSES: Send written comments concerning this proposed project to U.S. Army Corps of Engineers, Baltimore District, Attn: Mr. Christopher Spaur, CENAB-PL-P, P.O. Box 1715, Baltimore, MD 21203-1715. Submit electronic comments to christopher.c.spaur@usace.army.mil. See SUPPLEMENTARY INFORMATION section for additional information about sending written comments and filing electronic comments.

FOR FURTHER INFORMATION CONTACT: Mr. Christopher Spaur, (410) 962-6134 or (800) 295-1610.

SUPPLEMENTARY INFORMATION: The Atlantic Coast Project is designed to provide coastal flood and erosion protection to Ocean City, MD against a 100-year storm on the Atlantic Ocean. The Atlantic Coast of Maryland and Assateague Island Virginia Feasibility Report and Final Environmental Impact Statement for the project was finalized in August 1980. Subsequent environmental documents were prepared for the project in 1989 (Atlantic Coast of Maryland Hurricane Protection Project Final General Design Memorandum, Book 1 Main Report and Environmental Assessment) and 1993 (Environmental Assessment for the Use of Borrow Area No. 9 as Part of the Periodic Renourishment and Maintenance of the Atlantic Coast of Maryland Shoreline Protection Project). The project was completed in 1994. Periodic nourishment and maintenance of the beach are required to maintain the design level of protection. Since 1998, a period of few severe storms, approximately 800,000 cubic yards of sand have been placed on Ocean City beach every four years. Identified sand sources in state waters are forecast to be exhausted after about 2010.

This SEIS documents findings of investigations conducted from 2001 through 2006 to select new borrow sources for the Atlantic Coast Project through the remainder of the project's 50 year economic life. Studies to develop the borrow plan were conducted by the USACE, in partnership with the Maryland Department of Natural Resources (DNR), Ocean City, and Minerals Management Service (MMS). DNR is the cost-sharing non-Federal sponsor of the study with USACE; MMS is a cooperating agency. A Notice of Intent (NOI) to prepare a General Reevaluation Report and Supplemental Environmental Impact Statement was published in the Federal Register on October 21, 2003 (68 FR 60095). Coordination with resource agency personnel, academic experts, and fishermen was undertaken during plan formulation.

Offshore shoals are the most appropriate sand sources for the project since these contain large quantities of suitable sand that can be cost-effectively obtained. Offshore shoal borrow sources in Federal waters that could provide up to 15,000,000 cubic yards of sand through 2044 were sought and identified. Three offshore shoals were selected and proposed as sand sources based on engineering, environmental, and economic screening criteria: Weaver, Isle of Wight, and “A.” Sand at Shoal “B,” also known as Bass Grounds or First Lump is engineeringly and economically suitable, however that shoal is currently an important fishing ground. Accordingly, Shoal “B” would not be utilized unless future reevaluation finds that its relative value as a fishing ground has declined substantially. Sub-areas on each shoal were delineated based on suitability of sand for beach nourishment purposes.

Dredging guidelines to minimize long-term impacts to the offshore shoals were formulated. No more than about 5% of the total volume of any shoal would be dredged. Dredging on any given shoal would avoid the crest, be conducted uniformly over a wide area, go no deeper than ambient seafloor depths, and preferentially dredge on the up and downdrift ends of the shoal if suitable sand is present there.

This SEIS documents the National Environmental Policy Act (NEPA) compliance for the proposed new offshore shoal borrow sources and supplements previous environmental documents. Printed and electronic copies of the Draft SEIS can be obtained from Christopher Spaur; copies will also be available at the public meeting. You may view the Draft SEIS and related information on the worldwide web at: http://www.nab.usace.army.mil/PN/CivilWorks.htm.

Please include your name and address with your comments. Electronic comments on the Draft SEIS must be contained in the body of the message; do not send attached files. Please include your name and address in your message. After the public comment period ends, USACE will consider all comments received. The Draft SEIS will be revised as appropriate and a Final SEIS will be issued.

The Draft SEIS has been prepared in accordance with (1) The National Environmental Policy Act (NEPA) of 1969, as amended (42 U.S.C. 4321 et seq.), (2) regulations of the Council on Environmental Quality for implementing the procedural provisions of NEPA (40 CFR parts 1500-1508), and (3) USACE regulations for implementing NEPA (ER-200-2-2).

Christopher C. Spaur,
Ecologist, Planning Division, Baltimore District, U.S. Army Corps of Engineers.

[FR Doc. 07-3287 Filed 7-9-07; 8:45 am]

BILLING CODE 3710-41-M